DEPARTMENT OF THE TREASURY

Internal Revenue Service

26 CFR Part 301

[TD 9106]

RIN 1545-AW99

Awards of Attorney's Fees and Other Cost Based Upon Qualified Offers; Correction

AGENCY: Internal Revenue Service (IRS), Treasury.

ACTION: Correction to final regulations and removal of temporary regulations.

SUMMARY: This document corrects final regulations and the removal of temporary regulations (TD 9106) that were published in the Federal Register on December 29, 2003 (68 FR 74848). The document contains final regulations and the removal of temporary regulations relating to the qualified offer rule, including the requirements that an offer must satisfy to be treated as a qualified offer under section 7430(g) and the requirements that a taxpayer must satisfy to qualify as a prevailing party by reason of having made a qualified offer.

DATES: This document is effective on December 24, 2003.

FOR FURTHER INFORMATION CONTACT: Tami C. Belouin, (202) 622-7950 (not a toll-free number).

SUPPLEMENTARY INFORMATION:

Background

The final regulations and removal of temporary regulations (TD 9106) that is the subject of this correction are under section 7430(g) of the Internal Revenue Code.

Need for Correction

As published, the final regulations and removal of temporary regulations(TD 9106) contains an error that may prove to be misleading and is in need of clarification.

Correction of Publication

Accordingly, the publication of the final regulations and removal of temporary regulations (TD 9106) that were the subject of FR. Doc. 03-31822, is corrected as follows:

§ 301.7430-7 [Corrected]

1.On page 74855, column 1, § 301.7430-7(g), line 1, the language “(g) Effective date. This section is” is corrected to read “(f) Effective date. This section is”.

Cynthia E. Grigsby,
Acting Chief, Publications and Regulations Branch, Legal Processing Division, Associate Chief Counsel (Procedures and Administration).

[FR Doc. 04-1814 Filed 1-27-04; 8:45 am]

BILLING CODE 4830-01-P